DEPARTMENT OF TRANSPORTATION

Federal Railroad Administration

[Docket Number FRA-2007-27868]

Petition for Waiver of Compliance

Under part 211 of Title 49 Code of Federal Regulations (CFR), this provides the public notice that on November 16, 2017, the Durbin & Greenbrier Valley Railroad, Inc. (DGVR) petitioned the Federal Railroad Administration (FRA) for a waiver of compliance from certain provisions of the Federal railroad safety regulations contained at 49 CFR part 223. FRA assigned the petition Docket Number FRA-2007-27868.

Specifically, DGVR seeks to renew its waiver of compliance from the glazing regulations in 49 CFR 223.11, Requirements for existing locomotives, for one locomotive, identified as DGVR Locomotive Number 82. The locomotive is a 1,500 horsepower diesel electric locomotive, model BL-2, built by Electro Motive Division of General Motors in 1948 and still has the original glazing intact. The locomotive was originally built strictly for branch line service and continues to be used exclusively in this manner. The locomotive is housed in Belington, West Virginia, and is used sporadically on track leased by a subsidiary division of DGVR, the West Virginia Central Division. DGVR states that DGVR Locomotive Number 82 is used in a limited manner for freight and excursion service along 89 miles of rural and wilderness track. The maximum authorized speed over this track does not exceed Class 2 track speeds. DGVR states that there are only two overpasses over the track, both of which are patrolled by local law enforcement officials on a regular basis, and that there is no history of vandalism along this track. DGVR believes that this locomotive can be safely operated throughout the rural area with the current non-compliant safety-type glazing. The cost to DGVR for installation of all new window frames and compliant FRA Type I & II glazing is significant, with only a marginal increase in safety due to the low speed. A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by February 9, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-27776 Filed 12-22-17; 8:45 am]

BILLING CODE 4910-06-P